GENERAL SERVICES ADMINISTRATION

[OMB Control No. 3090-0086]

Submission for OMB Review and Extension GSA Form 1364, Proposal to Lease Space (Not Required by Regulation)

AGENCY: General Services Administration (GSA).

ACTION: Notice of an emergency reinstatement and request for review and extension of the reinstated collection (3090-0086).

SUMMARY: Under the provisions of the Paperwork Reduction Act of 1995 (44 U.S.C. Chapter 35), the General Services Administration (GSA Regulatory Secretariat requested in August 2001 that the Office of Management and Budget (OMB) reinstate on information collection that pertains to GSA Form 1364, Proposal to Lease Space. OMB reinstated the collection on August 24, 2001, Information collected under this authority is not otherwise required by regulation. This notice indicates GSA's intent to request an extension by 3 years of OMB's emergency reinstatement of this collection and to request public review and comment on the collection

Public comments are particularly invited on: Whether the GSA Form 1364, Proposal to Lease Space, is necessary to conduct a proper analysis of leasing proposals prior to awarding leasing contracts, and whether it will have practical utility; whether our estimate of the burden of this collection of information is accurate, and based on valid assumptions and methodology; easy to enhance the quality, utility, and clarity of the information to be collected; and ways in which we can minimize the burden of the collection of information on those who are to respond, through the use of appropriate technological collection techniques or other forms of information technology.

DATES: Comments may be submitted on or before December 17, 2001.

FOR FURTHER INFORMATION CONTACT: Julia Wise, Acquisition Policy Division, GSA (202) 208-1168.

ADDRESSES Comments regarding this burden estimate or any other aspect of this collection of information, including suggestions for reducing this burden, should be submitted to: Ed Springer, GSA Desk Officer, OMB, Room 10236, NEOB, Washington, DC 20503, and a copy to Stephanie Morris General Services Administration, Regulatory Secretariat, 1800 F Street, NW., Room 4035, Washington, DC 20405.

SUPPLEMENTARY INFORMATION:

A. Purpose

The General Services Administration (GSA) have various mission responsibilities related to the acquisition and provision of real property management, and disposal of real and personal property. These mission responsibilities generate requirements that are realized through the solicitation and award of leasing contracts. Individuals solicitations and resulting contracts may impose unique information collection/reporting requirements on contractors, not required by regulation, but necessary to evaluate particular program accomplishments and measure success in meeting program objectives.

B. Annual Reporting Burden

Respondents: 5016.

Responses Per Respondent: 1.

Total Responses: 5,016.

Total Burden Hours: 25,183.

Obtaining Copies of Proposal

Requesters may obtain a copy of the proposal from the General Services Administration, Regulatory Secretariat (MVP), 1800 F Street, NW., Room 4035, Washington, DC 20405, telephone (202) 501-4755. Please cite OMB Control No. 3090-0086, GSA Form 1364, Proposal to Lease Space (Not Required by Regulation), in all correspondence.

Dated: October 9, 2001.
David A. Drabkin,
Deputy Associate Administrator, Office of Acquisition Policy.

[FR Doc. 01-26007 Filed 10-16-01; 8:45 am]

BILLING CODE 6820-34-M